DEPARTMENT OF VETERANS AFFAIRS

Advisory Committee on Disability Compensation; Notice of Meeting Cancellation

AGENCY: Department of Veterans Affairs.

The Department of Veterans Affairs gives notice under the Federal Advisory Committee Act, 5 U.S.C. App. 2, that the meeting of the Advisory Committee on Disability Compensation, previously scheduled to be held at the Department of Veterans Affairs, 1800 G Street NW., Washington, DC 20006, on March 9-11, 2015, has been cancelled.

For more information, please contact Ms. Nancy Copeland, Designated Federal Officer at (202) 461-9684 or via email at Nancy.Copeland@va.gov.

Dated: March 3, 2015.
Michael Shores,
Regulation Policy and Management, Office of General Counsel.

[FR Doc. 2015-05213 Filed 3-4-15; 8:45 am]

BILLING CODE 8320-01-P